DEPARTMENT OF THE INTERIOR

National Park Service

[2253-665]

Notice of Inventory Completion: USDA Forest Service, Daniel Boone National Forest, Winchester, KY

AGENCY: National Park Service, Interior.

ACTION: Notice.

SUMMARY: The U.S. Department of Agriculture, Forest Service, Daniel Boone National Forest, has completed an inventory of human remains and associated funerary objects, in consultation with the appropriate Indian tribes, and has determined that there is no cultural affiliation between the remains and any present-day Indian tribe. Representatives of any Indian tribe that believes itself to be culturally affiliated with the human remains may contact the Daniel Boone National Forest, Winchester, KY. Repatriation of the human remains to the Indian tribes stated below may occur if no additional claimants come forward.

DATES: Representatives of any Indian tribe that believes it has a cultural affiliation with the human remains should contact the Forest Tribal Liaison, Daniel Boone National Forest, at the address below by April 6, 2012.

ADDRESSES: Forest Tribal Liaison, Daniel Boone National Forest, Winchester, KY 40391, telephone (859) 745-3138.

SUPPLEMENTARY INFORMATION: Notice is here given in accordance with the Native American Graves Protection and Repatriation Act (NAGPRA), 25 U.S.C. 3003, of the completion of an inventory of human remains and associated funerary objects in the possession of the Daniel Boone National Forest, Winchester, KY. The human remains and associated funerary objects were removed from three counties, Estill, McCreary, and Morgan, inside the Daniel Boone National Forest, KY.

This notice is published as part of the National Park Service's administrative responsibilities under NAGPRA, 25 U.S.C. 3003(d)(3) and 43 CFR 10.11(d). The determinations in this notice are the sole responsibility of the museum, institution or Federal agency that has control of the Native American human remains and associated funerary objects. The National Park Service is not responsible for the determinations in this notice.

Consultation

A detailed assessment of the human remains was made by professional staff of the U.S. Department of Agriculture, Forest Service, Daniel Boone National Forest, in consultation with representatives of the Absentee-Shawnee Tribe of Indians of Oklahoma; Cherokee Nation, Oklahoma; Eastern Band of Cherokee Indians of North Carolina; Eastern Shawnee Tribe of Oklahoma; Shawnee Tribe, Oklahoma; and the United Keetoowah Band of Cherokee Indians in Oklahoma.

History and Description of the Remains

In March 1988, human remains representing, at minimum, one individual were removed from site 15MCY414 in McCreary County, KY. The human remains from this site were collected from disturbed contexts by Forest Service archeologists. No known individual was identified. The human remains include 22 fragments representing one adult female and are from an unknown context within the site. Artifacts recovered from the site indicate that this site was occupied during the Late Woodland cultural period dating from A.D. 500 to 1000. The five associated funerary objects are 1 deer bone, 1 turkey bone, 1 battered stone, 1 triangular projectile point, and 1 fragment of shell tempered pottery.

On October 18, 1985, human remains representing, at minimum, one individual were removed from site 15MO103 in Morgan County, KY. The human remains from this site were turned over to the Daniel Boone National Forest by the physical anthropologist at Eastern Kentucky University when it was determined they were acquired illegally from the Daniel Boone National Forest. No known individual was identified. The nearly complete human remains of one individual are from an unknown context within the site. Artifacts recovered from the site indicate that this site was occupied during the Late Archaic cultural period dating from 3000 to 1000 B.C. The two associated funerary objects are 1 McWhinney projectile point and 1 freshwater mussel shell.

In 1983, human remains representing, at minimum, one individual were removed from site 15MCY76 in McCreary County, KY. The human remains from this site were collected during site recordation by Forest Service archeologists. No known individual was identified. The fragment of a human femur is from an unknown context within the site. Artifacts recovered from the site indicate that this site was occupied during the Prehistoric cultural period dating prior to A.D. 1700. No associated funerary objects are present.

At an unknown date, human remains representing, at minimum, one individual were removed from an unknown location in Estill County, KY. The human remains were found in an artifact collection stored at the Daniel Boone National Forest while doing a collections inventory. No known individual was identified. The fragmentary human remains are from an unknown context within the site. Artifacts recovered from the site indicate that this site was occupied during the prehistoric cultural period dating prior to A.D. 1700. No associated funerary objects are present.

Determinations Made by the Daniel Boone National Forest

Officials of the Daniel Boone National Forest have determined that:

• Based on the approximate date of artifacts recovered from the site, these human remains are Native American.

• Pursuant to 25 U.S.C. 3001(2), a relationship of shared group identity cannot be reasonably traced between the Native American human remains and any present-day Indian tribe.

• Other credible lines of evidence indicate that the land from which the Native American human remains and associated funerary objects were removed is the aboriginal land of the Absentee-Shawnee Tribe of Indians of Oklahoma; Cherokee Nation, Oklahoma; Eastern Band of Cherokee Indians of North Carolina; Eastern Shawnee Tribe of Oklahoma; Shawnee Tribe, Oklahoma; and the United Keetoowah Band of Cherokee Indians in Oklahoma.

• Pursuant to 25 U.S.C. 3001(9), the human remains described in this notice represent the physical remains of four individuals of Native American ancestry.

• Pursuant to 25 U.S.C. 3001(3)(A), the seven associated funerary objects described in this notice are reasonably believed to have been placed with or near individual human remains at the time of death or later as part of the death rite or ceremony.

• Pursuant to 43 CFR 10.11(c)(2)(i), the disposition of the human remains and associated funerary objects will be to the Absentee-Shawnee Tribe of Indians of Oklahoma; the Cherokee Nation, Oklahoma; Eastern Band of Cherokee Indians of North Carolina; Eastern Shawnee Tribe of Oklahoma; Shawnee Tribe, Oklahoma; and the United Keetoowah Band of Cherokee Indians in Oklahoma.

Additional Requestors and Disposition

Representatives of any Indian tribe that believes itself to be culturally affiliated with the human remains or any other Indian tribe that believes it satisfies the criteria in 43 CFR 10.11(c)(2)(i) should contact the Forest Tribal Liaison, Daniel Boone National Forest, Winchester, KY 40391, telephone (859) 745-3138, before April 6, 2012. Disposition of the human remains to the Absentee-Shawnee Tribe of Indians of Oklahoma; the Cherokee Nation, Oklahoma; Eastern Band of Cherokee Indians of North Carolina; Eastern Shawnee Tribe of Oklahoma; Shawnee Tribe, Oklahoma; and the United Keetoowah Band of Cherokee Indians in Oklahoma may proceed after that date if no additional claimants or requestors come forward.

The Daniel Boone National Forest is responsible for notifying the Absentee-Shawnee Tribe of Indians of Oklahoma; the Cherokee Nation, Oklahoma; Eastern Band of Cherokee Indians of North Carolina; Eastern Shawnee Tribe of Oklahoma; Shawnee Tribe, Oklahoma; and the United Keetoowah Band of Cherokee Indians in Oklahoma that this notice has been published.

Dated: March 2, 2012.
Sherry Hutt,
Manager, National NAGPRA Program.

[FR Doc. 2012-5583 Filed 3-6-12; 8:45 am]

BILLING CODE 4312-50-P